ENVIRONMENTAL PROTECTION AGENCY

40 CFR Part 62

[No. R803CISWI; FRL-7560-3]

Approval and Promulgation of State Plans for Designated Facilities and Pollutants; Colorado, Montana, North Dakota, South Dakota, Utah, Wyoming; Control of Emissions From Existing Commercial and Industrial Solid Waste Incinerators

AGENCY: Environmental Protection Agency (EPA).

ACTION: Proposed rule.

SUMMARY: EPA is proposing to approve the commercial and industrial solid waste incinerator 111(d)/129 plan (the “plan”) submitted by North Dakota's Department of Health on May 1, 2003. The plan was submitted to fulfill requirements of the Clean Air Act (CAA). The plan establishes emission limits, monitoring, operating, and recordkeeping requirements for commercial and industrial solid waste incinerator (CISWI) units for which construction commenced on or before November 30, 1999. EPA is also proposing to approve negative declarations submitted by Colorado's Department of Public Health and Environment on May 6, 2002; Montana's Department of Environmental Quality on January 28, 2002; South Dakota's Department of Environment and Natural Resources on February 28, 2002; Utah's Department of Environmental Quality on April 23, 2002; Wyoming's Department of Environmental Quality on December 16, 2002.

DATES: Written comments must be received in writing on or before October 17, 2003.

ADDRESSES: Written comments may be mailed to Richard R. Long, Director, Air and Radiation Program, Mailcode 8P-AR, Environmental Protection Agency (EPA), Region 8, 999 18th Street, Suite 300, Denver, Colorado 80202-2466. Comments may also be submitted electronically, or through hand delivery/courier. Please follow the detailed instructions (Part (I)(B)(1)(i) through (iii) of the Supplementary Information section) described in the direct final rule which is located in the Rules Section of this Federal Register. Copies of the documents relevant to this action are available for public inspection Monday through Friday, 8 a.m. to 4 p.m., excluding Federal holidays, at the Air and Radiation Program, Environmental Protection Agency, Region 8, 999 18th Street, Suite 300, Denver, Colorado 80202-2466. Copies of the documents relevant to each respective State action are available for public inspection at the Colorado Department of Public Health and Environment, Air Pollution Control Division, 4300 Cherry Creek Drive South, Denver, Colorado 80246-1530; Montana Department of Environmental Quality, Air and Waste Management Bureau, 1520 E. 6th Avenue, Helena, Montana 59620; North Dakota State Department of Health, Division of Environmental Engineering, 1200 Missouri Avenue, Bismarck, North Dakota 58506; South Dakota Department of Environmental and Natural Resources, Air Quality Program, Joe Foss Building, 523 East Capitol, Pierre, South Dakota 57501; Utah Department of Environmental Quality, Division of Air Quality, 150 North 1950 West, Salt Lake City, Utah 84114; and Wyoming Department of Environmental Quality, Air Quality Division, 122 W. 25th Street, Cheyenne, WY 82002.

FOR FURTHER INFORMATION CONTACT: Kathleen Paser, Air and Radiation Program, Mailcode 8P-AR, Environmental Protection Agency (EPA), Region 8, 999 18th Street, Suite 300, Denver, Colorado 80202-2466, 303-312-6526, paser.kathleen@epa.gov.

SUPPLEMENTARY INFORMATION: See the information provided in the Direct Final action of the same title which is located in the Rules and Regulations Section of this Federal Register.

Authority: 42 U.S.C. 7401 et seq.

Dated: September 2, 2003.
Robert E. Roberts,
Regional Administrator, Region 8.

[FR Doc. 03-23750 Filed 9-16-03; 8:45 am]

BILLING CODE 6560-50-P